SECURITIES AND EXCHANGE COMMISSION

[Release Nos. 33-10830; 34-89713; File No. 265-28]

Investor Advisory Committee Meeting

AGENCY: Securities and Exchange Commission.

ACTION: Notice of public meeting.

SUMMARY: The Securities and Exchange Commission Investor Advisory Committee, established pursuant to Section 911 of the Dodd-Frank Wall Street Reform and Consumer Protection Act of 2010, is providing notice that it will hold a public meeting. The public is invited to submit written statements to the Committee.

DATES: The meeting will be held on Thursday, September 24, 2020 from 10:00 a.m. until 4:00 p.m. (ET). Written statements should be received on or before September 24, 2020.

ADDRESSES: The meeting will be conducted by remote means and/or at the Commission's headquarters, 100 F St NE, Washington, DC 20549. The meeting will be webcast on the Commission's website at www.sec.gov. Written statements may be submitted by any of the following methods:

Electronic Statements

Use the Commission's internet submission form (http://www.sec.gov/rules/other.shtml); or

Send an email message to rules-comments@sec.gov. Please include File No. 265-28 on the subject line; or

Paper Statements

Send paper statements to Vanessa A. Countryman, Secretary, Securities and Exchange Commission, 100 F Street NE, Washington, DC 20549-1090.

All submissions should refer to File No. 265-28. This file number should be included on the subject line if email is used. To help us process and review your statement more efficiently, please use only one method.

Statements also will be available for website viewing and printing in the Commission's Public Reference Room, 100 F Street NE, Room 1503, Washington, DC 20549, on official business days between the hours of 10:00 a.m. and 3:00 p.m. All statements received will be posted without change. Persons submitting comments are cautioned that we do not redact or edit personal identifying information from comment submissions. You should submit only information that you wish to make available publicly.

FOR FURTHER INFORMATION CONTACT: Marc Oorloff Sharma, Chief Counsel, Office of the Investor Advocate, at (202) 551-3302, Securities and Exchange Commission, 100 F Street NE, Washington, DC 20549.

SUPPLEMENTARY INFORMATION: The meeting will be open to the public, except during that portion of the meeting reserved for an administrative work session during lunch. Persons needing special accommodations to take part because of a disability should notify the contact person listed in the section above entitled FOR FURTHER INFORMATION CONTACT.

The agenda for the meeting includes: Welcome remarks; approval of previous meeting minutes; a panel discussion regarding self-directed IRAs; a panel discussion regarding minority community investor inclusion; a discussion of a recommendation to restate and amend the by-laws of the Committee; subcommittee reports; and a non-public administrative session.

Dated: August 31, 2020.
Vanessa A. Countryman,
Secretary.

[FR Doc. 2020-19518 Filed 9-2-20; 8:45 am]

BILLING CODE 8011-01-P